DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Estimating the Economic Burden of Vibrio parahaemolyticus in Washington State Aquaculture.

OMB Control Number: 0648-XXXX.

Form Number(s): None.

Type of Request: New collection.

Number of Respondents: 128.

Average Hours per Response: 0.5.

Burden Hours: 48 hours (assuming a 75% response rate).

Needs and Uses: The National Ocean Service (NOS) proposed a new collection in order to pursue three of the strategic goals of the NOAA Office of Aquaculture: To advance understanding of the interactions of aquaculture and the environment; to increase the supply of nutritious, safe, high-quality domestic seafood; develop and use socioeconomic and business research to advance domestic aquaculture. NOS proposes to estimate the costs associated with reported Vibrio illnesses, which is a demand expressed in a number of industry settings. Washington State Department of Health expressed desire for this information in order to more accurately plan their budgets.

Management agency staff, restaurant staff, and oyster farm staff will be asked to help develop a model of what kind of expenditures accrue during a response to a reported Vibrio illness and estimate the value of those expenditures. The results of the project will be used to develop a model to estimate the full suite of costs of seafood-borne illness and will provide an estimate for agency and business budget planners.

Affected Public: Management agency staff, oyster farm staff, restaurant staff.

Frequency: Once.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-05438 Filed 3-21-19; 8:45 am]

BILLING CODE 3510-JS-P